OFFICE OF PERSONNEL MANAGEMENT

Request for Applications: Multi-State Plan Program Advisory Board, 3206—NEW

AGENCY: U.S. Office of Personnel Management.

ACTION: Notice.

SUMMARY: This notice announces that OPM is soliciting applications for membership for individuals to serve on the Multi-State Plan Program Advisory Board.

DATES: Applications will be accepted until February 16, 2015.

ADDRESSES: Interested persons are invited to submit applications to National Healthcare Operations, Office of Personnel Management, by applying online at https://www.usajobs.gov/GetJob/ViewDetails/386696900?share=email.

FOR FURTHER INFORMATION CONTACT: National Healthcare Operations, Office of Personnel Management, 1900 E Street NW., Room 3468, Washington, DC 20415. Phone: 202-606-2808; Email: mspp@opm.gov.

SUPPLEMENTARY INFORMATION:

I. Background

Section 1334 of the Patient Protection and Affordable Care Act (“Affordable Care Act”) (42 U.S.C. 18054) authorizes OPM to establish and administer the Multi-State Plan (MSP) Program to increase consumer choice and foster competition across the Marketplace. Under Section 1334(h) of the Affordable Care Act, the Director of OPM must “establish an advisory board to provide recommendations on the activities” of the MSP Program and a “significant percentage of the members of such board shall be comprised of enrollees in a multi-State qualified health plan, or representatives of such enrollees.”

Members of the Advisory Board shall exchange information, ideas, and recommendations regarding OPM's administration of the MSP Program, including plan design, branding and marketing, network adequacy, and other topics assigned to it by the Director.

Advisory Board meetings will serve as a forum for interactive dialogue and exchange of individual experiences and viewpoints among consumers, consumer representatives, and OPM staff. This forum will serve to better inform OPM's policy development, rulemaking, and outreach activities with regard to the MSP Program.

II. Requests for Applications

The Advisory Board shall consist of up to 15 members and will be co-chaired by the OPM Director or his/her designee and an MSP Program enrollee. Advisory Board members generally serve for a term of two years and may be re-appointed by the Director of OPM or his/her designee. A significant percentage of the Advisory Board members should be MSP Program enrollees or MSP Program enrollee representatives. Enrollee representatives may include public health and/or healthcare professionals (including providers, navigators, and assisters) or members of other consumer advocacy groups that have worked with or on behalf of healthcare consumers. Health insurance issuers or representatives of health insurance issuers will not be considered for Advisory Board membership.

We are seeking applicants that have knowledge and experience in one or more of the following fields:

• Experience as an MSP enrollee or MSP enrollee representative

• Experience with and/or knowledge of public health or health insurance issues

• Experience working for and/or with consumer advocacy groups regarding healthcare issues

• Knowledge of the Affordable Care Act, the health care system, or health-related programs.

Applicants must answer questions regarding their experience with the MSP Program, knowledge of the Affordable Care Act, and experience working with various consumer groups and must also answer questions regarding conflicts of interest.

We hope to establish a board that draws from all segments of society, including, but not limited to, individuals with disabilities or who belong to, work for, or represent disability organizations; lesbian, gay, bisexual, transgender (LGBT) people or people who belong to, work for, or represent LGBT organizations; people who come from rural or medically-underserved populations or who belong to, work for, or represent organizations that work on behalf of such populations; people who are members of racial or ethnic minorities or who belong to, work for, or represent organizations that work on behalf of such minority groups; and people who are members of tribes or who belong to, work for, or represent tribal organizations. For that reason, we encourage all individuals who believe they have relevant expertise or a perspective that would be useful to offer to apply.

Application Materials: Each applicant must include a completed application and, if available, upload a resume. We request that all resumes include the following:

• Title and current position

• Professional affiliation

• Home or business address

• Telephone number

• Email address

• List of areas of expertise

Applicants may also upload a cover letter and letters of endorsement or recommendation. Interested persons are invited to submit applications to National Healthcare Operations, Office of Personnel Management, by applying online at https://www.usajobs.gov/GetJob/ViewDetails/386696900?share=email.

III. Copies of the Charter

The MSP Program Advisory Board Charter is available on the OPM Web site at: http://www.opm.gov/healthcare-insurance/multi-state-plan-program/consumer/advisory-board-charter.pdf

U.S. Office of Personnel Management.
Katherine Archuleta,
Director.

[FR Doc. 2014-29226 Filed 12-12-14; 8:45 am]

BILLING CODE 6325-64-P